DEPARTMENT OF ENERGY

Federal Energy Regulatory Commission

[Project No. 12649-000]

East Bay Municipal Utility District; Notice of Effectiveness of Surrender

On May 24, 2006, the Commission issued an Order Granting Exemption from Licensing (Conduit) ¹ to the East Bay Municipal Utility District (District) for the Briones Energy Recovery Project, FERC No. 12649. The unconstructed project would have been located in the existing pipeline which supplies the Orinda Water Treatment Plant in Contra Costa County, California.

¹ 115 FERC ¶ 62,212.

On May 30, 2014, the District filed an application with the Commission to surrender the exemption. The District has decided not to move forward with construction of the project, citing insufficient economic returns and cheaper alternatives in reducing greenhouse gas emissions.

Accordingly, the Commission accepts the District's surrender of its exemption from licensing, effective 30 days from the date of this notice, at the close of business on Monday, August 11, 2014. No license, exemption, or preliminary permit applications for the project site may be filed until Tuesday, August 12, 2014.

Dated: July 10, 2014.
Kimberly D. Bose,
Secretary.

[FR Doc. 2014-17045 Filed 7-18-14; 8:45 am]

BILLING CODE 6717-01-P